DEPARTMENT OF JUSTICE

Notice of Lodging of Consent Decree Under the Clean Air Act

Notice is hereby given that on March 14, 2007, a proposed Consent Decree in United States of America v. William Montgomery, et al, Civil Action No. 2:05-CV-0131 was lodged with the United States District Court for the Western District of Michigan.

In this action, pursuant to Sections 309(b) and (g), 33 U.S.C. §§ 1319(b) and (g) of the Clean Water Act, the United States sought judicial enforcement of an administrative Consent Agreement and Final Order (“CAFO”) that William Montgomery (“Montgomery”) and CCMS Associates, Inc. (“CCMS”) entered into on September 17, 2003. The CAFO resolved violations by Montgomery and CCMS of the Clean Water Act, requiring them to pay a $30,000 civil penalty and restore 18.51 acres of wetlands. The complaint also sought relief against Montgomery and Montgomery Aggregate Products, Inc., for failing to comply with permitting and notice requirements, in violation of the Clean Air Act (“CAA”), 42 U.S.C. 7401, et seq., specifically the New Source Performance Standards (“NSPS”), for nonmetallic mineral processing plants, 40 CFR part 60.

A default judgment was entered against Defendant CCMS. The proposed Consent Decree would, resolve the remaining claims against Defendants Montgomery and Montgomery Aggregate Products, Inc., by inter alia, (1) requiring them to pay a civil penalty of $72,000; (2) requiring Montgomery to perform the wetlands mitigation they previously agreed to undertake in the CAFO, as modified in the Decree; and (3) requiring them to comply with the provisions of the Clean Air Act and specifically, the NSPS for nonmetallic mineral processing plants, 40 CFR part 60, or pay stipulated penalties for any infraction thereof.

The Department of Justice will receive for a period of thirty (30) days from the date of this publication comments relating to the Consent Decree. Comments should be addressed to the Assistant Attorney General, Environmental and Natural Resources Division, P.O. Box 7611, U.S. Department of Justice, Washington, DC 20044-7611, and should refer to United States v. Montgomery, et al., D.J. Ref. 90-5-2-1-08092/1. Comments may also be submitted by e-mail to the following e-mail address: pubocmment-ees.enrd@usdoj.gov.

The Consent Decree may be examined at the Office of the United States Attorney, Fifth Floor, 330 Ionia NW., Grand Rapids, MI 49503, and at the United States Environmental Protection Agency, Region V, 77 West Jackson Boulevard, C-14J, Chicago, IL 60604. During the public comment period, the Consent Decree may also be examined on the following Department of Justice Web site, to http://www.usdoj.gov/enrd/Consent_Decrees.html A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $25.75 (25 cents per page reproduction cost) payable to the U.S. Treasury or, if by e-mail or fax, forward a check in that amount to the Consent Decree Library at the stated address. In requesting a copy exclusive of exhibits and defendants' signatures, please enclose a check in the amount of $9.25 (25 cents per page reproduction cost) payable to the U.S. Treasury.

Jennifer L. McManus,
Assistant United States Attorney, U.S. Attorney's Office—Western District of Michigan.

[FR Doc. 07-1721 Filed 4-6-07; 8:45 am]

BILLING CODE 4410-JH-M